DEPARTMENT OF HEALTH AND HUMAN SERVICES

Food and Drug Administration

[Docket No. FDA-2009-N-0535]

Agency Information Collection Activities; Announcement of Office of Management and Budget Approval; “Real Time” Surveys of Consumers' Knowledge, Perceptions and Reported Behavior Concerning Foodborne Illness Outbreaks or Food Recalls

AGENCY: Food and Drug Administration, HHS.

ACTION: Notice.

SUMMARY: The Food and Drug Administration (FDA) is announcing that a collection of information entitled “`Real Time' Surveys of Consumers' Knowledge, Perceptions and Reported Behavior Concerning Foodborne Illness Outbreaks or Food Recalls” has been approved by the Office of Management and Budget (OMB) under the Paperwork Reduction Act of 1995.

FOR FURTHER INFORMATION CONTACT: Denver Presley II, Office of Information Management, Food and Drug Administration, 1350 Piccard Dr., PI50-400B, Rockville, MD 20850, 301-796-3793.

SUPPLEMENTARY INFORMATION: On June 27, 2011, the Agency submitted a proposed collection of information entitled “`Real Time' Surveys of Consumers' Knowledge, Perceptions and Reported Behavior Concerning Foodborne Illness Outbreaks or Food Recalls” to OMB for review and clearance under 44 U.S.C. 3507. An Agency may not conduct or sponsor, and a person is not required to respond to, a collection of information unless it displays a currently valid OMB control number. OMB has now approved the information collection and has assigned OMB control number 0910-0711. The approval expires on October 31, 2013. A copy of the supporting statement for this information collection is available on the Internet at http://www.reginfo.gov/public/do/PRAMain.

Dated: June 20, 2012.
Leslie Kux,
Assistant Commissioner for Policy.

[FR Doc. 2012-15696 Filed 6-26-12; 8:45 am]

BILLING CODE 4160-01-P